DEPARTMENT OF TRANSPORTATION

Federal Aviation Administration

14 CFR Part 71

[Docket No. FAA-2002-14010; Airspace Docket No. 02-AAL-09]

RIN 2120-AA66

Modification and Revocation of Federal Airways; AK

AGENCY: Federal Aviation Administration (FAA) DOT.

ACTION: Final rule.

SUMMARY: This action revises Very High Frequency Omnidirectional Range (VOR) Federal airway Victor 317 (V-317); and revokes V-307 and V-362 in Alaska. The FAA is taking this action due to the decommissioning of the McInnes Nondirectional Radio Beacon (NDB) in Canada.

EFFECTIVE DATES: 0901 UTC, April 15, 2004.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

History

On January 30, 2003, the FAA published, in the Federal Register, a notice proposing to revise V-317 and Amber 15 (A-15); and revoke V-307 and V-362 in Alaska (68 FR 4742). The proposed revision to A-15 has been removed from this action, since a flight inspection was not completed for that portion of the original proposal. Final action on A-15 will be addressed in future rulemaking. The FAA is taking this action due to the decommissioning of the McInnes NDB in Canada.

Interested parties were invited to participate in this rulemaking effort by submitting written comments on the proposal. No comments were received regarding this proposal. With the exception of the final action on A-15 and minor editorial changes, this amendment is the same as that proposed in the notice.

The Rule

This action amends title 14 Code of Federal Regulations (14 CFR) part 71 (part 71) by revising V-317, and revoking V-307 and V-362 in Alaska. The FAA is taking this action due to the decommissioning of the McInnes NDB in Canada.

Alaskan VOR Federal airways are published in paragraph 6010(b) of FAA Order 7400.9L dated September 2, 2003 and effective September 16, 2003, which is incorporated by reference in 14 CFR 71.1. The Alaska VOR Federal airways listed in this document would be published subsequently in the order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9L, Airspace Designations and Reporting Points, dated September 2, 2003, and effective September 16, 2003, is amended as follows:

Paragraph 6010(b) Alaskan VOR Federal Airways

* * * * *

V-307 (Revoked)

* * * * *

V-362 (Revoked)

* * * * *

V-317 (Revised)

From Vancouver, BC, Canada via Comox, BC, Canada; Port Hardy, BC, Canada; Sandspit, BC, Canada; Annette Island, AK; Level Island, AK; Sisters Island, AK; to INT Sisters Island 272° and Yakutat, AK, 139° radials. The airspace within Canada is excluded.

* * * * *

Issued in Washington, DC, January 20, 2004.
Reginald C. Matthews,
Manager, Airspace and Rules Division.

[FR Doc. 04-2437 Filed 2-4-04; 8:45 am]

BILLING CODE 4910-13-P